Title 3—

The President

Proclamation 7572 of June 7, 2002

Great Outdoors Week, 2002

By the President of the United States of America

A Proclamation

During Great Outdoors Week, our Nation celebrates the wonderful legacy of our parks, forests, wildlife refuges, recreation areas, and other public lands and waters. Protection of many of these special places started with initiatives begun by President Theodore Roosevelt. He established a commitment to conservation that we continue today. President Roosevelt believed that, “The nation behaves well if it treats the natural resources as assets which it must turn over to the next generation increased; and not impaired in value.” As we enjoy the many benefits of our great outdoors, we also must renew our individual and collective dedication to natural resource conservation.

Across our Nation, federally managed lands comprise nearly one out of every three acres. Thousands of recreation sites nationwide are managed by Federal agencies. These agencies work to make it easier for all people to enjoy our natural resources. “Recreation One-Stop” provides information on the Internet to help Americans find and experience the land we love. In addition, through increases in appropriations, fees paid by visitors, and partnerships with non-profits, communities, and businesses, we are addressing and reversing years of neglect.

Americans have a special appreciation for the great outdoors. Each year, thousands of hard-working volunteers contribute millions of hours to our parks and other sites. They build trails, act as campground hosts, staff visitor centers, serve as interpreters, clean shorelines, and introduce children to safe and healthful outdoor fun. Their efforts enhance the enjoyment of those who visit our parks each year. My call to service through the USA Freedom Corps will help energize volunteerism on these Federal lands. In addition, my Administration's new Cooperative Conservation Initiative will provide millions of dollars to help citizens undertake conservation projects on public lands.

The events of September 11 have reminded us of our deep and abiding love for our homeland. And our natural, historic, and cultural sites have played an important role since that tragic day, serving as places for many Americans to reflect upon life and renew their hope. During Great Outdoors Week, I encourage all Americans to experience and celebrate our wonderful natural heritage.

NOW, THEREFORE, I, GEORGE W. BUSH, President of the United States of America, by virtue of the authority vested in me by the Constitution and laws of the United States, do hereby proclaim June 9 through June 15, 2002, as Great Outdoors Week. I call on all Americans to observe this week with safe and wholesome outdoor recreational activities.

IN WITNESS WHEREOF, I have hereunto set my hand this seventh day of June, in the year of our Lord two thousand two, and of the Independence of the United States of America the two hundred and twenty-sixth.

B

[FR Doc. 02-14974

Filed 6-11-02; 8:45 am]

Billing code 3195-01-P